DEPARTMENT OF ENERGY
Federal Energy Regulatory Commission
[Docket No. IC04-580-000, FERC Form 580]
Commission Information Collection Activities, Proposed Collection; Comment Request Extension
January 22, 2004.

AGENCY:
Federal Energy Regulatory Commission.

ACTION:
Notice.

SUMMARY:
In compliance with the requirements of section 3506(c)(2)(a) of the Paperwork Reduction Act of 1995, 44 U.S.C. 3506(c)(2)(A), the Federal Energy Regulatory Commission (Commission) is soliciting public comment on the specifics of the information collection described below.

DATES:
Comments on the collection of information are due by March 26, 2004.

ADDRESSES:
Copies of the proposed collection of information can be obtained from Michael Miller, Office of the Executive Director, ED-30, 888 First Street, NE., Washington, DC 20426. Comments may be filed either in paper format or electronically. Those parties filing electronically do not need to make a paper filing. For paper filings, the original and 14 copies of such comments should be submitted to the Office of the Secretary, Federal Energy Regulatory Commission, 888 First Street, NE., Washington, DC 20426 and refer to Docket IC04-580-000.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgement to the sender's e-mail address upon receipt of comments.

All comments may be viewed, printed or downloaded remotely via the Internet through FERC's home page using the eLibrary link. For user assistance, contact FERCOnlineSupport@ferc.gov or toll-free at (866) 208-3676 or for TTY, contact (202) 502-8659.

FOR FURTHER INFORMATION CONTACT:

Michael Miller may be reached by telephone at (202) 502-8415, by fax at (202) 273-0873, and by e-mail at michael.miller@ferc.gov.

SUPPLEMENTARY INFORMATION:

Description
The information collected under FERC Form No. 580, “Interrogatory on Fuel and Energy Purchase Practices, Docket No. IN79-6” (OMB Control No. 1902-0137) is used by the Commission to carry out its responsibilities in implementing the statutory provisions of the Federal Power Act (FPA). The FPA was amended by the Public Utility Regulatory Policies Act (49 Stat. 851; 16 U.S.C. 824d) to require the Commission to review “not less frequently than every two (2) years * * * of practices * * * to ensure efficient use of resources (including economical purchase and use of fuel and electric energy) * * *.” The information is used to: (1) Review as mandated by statute, fuel purchase and cost recovery practices to insure efficient use of resources, including economical purchase and use of fuel and electric energy, under fuel adjustment clauses on file with the Commission; (2) evaluate fuel costs in individual rate filings; (3) to supplement periodic utility audits; and (4) to monitor changes and trends in the electric wholesale market. The information has also been used by the Energy Information Administration under a Congressional mandate to study various aspects of coal, oil, and gas transportation rates. Electric market participants and the public are using the information to assess the marketplace during its transition to a fully competitive regime.

Action: The Commission is requesting a three-year extension of the current expiration date, with no changes to the existing collection of data.

Burden Statement: Public reporting burden for this collection is estimated as:

Number of respondents annually
Number of responses per respondent
Average burden hours per response
Total annual burden hours

(1)
(2)
(3)
(1)×(2)×(3)

114
*59.5
64
3,648

(114 responses every two years)

Estimated cost burden to Respondents: 3,648 hours ÷ 2,080 hours per year × $107,185 = $196,231.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.
The estimate of cost for respondents is based upon salaries for professional clerical support, as well as direct and indirect overhead costs. Direct costs include all costs directly attributable to providing this information, such as administrative costs and the cost of information technology. Indirect or overhead costs are costs incurred by an organization in support of its mission. These costs apply to the activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

Pubic Utility Regulatory Policies Act.
Magalie R. Salas,
Secretary.

[FR Doc. E4-147 Filed 1-29-04; 8:45 am]
BILLING CODE 6717-01-P